DEPARTMENT OF HOMELAND SECURITY

Coast Guard

[Docket No. USCG-2018-0489]

Notice of Public Meeting in Preparation for the Sixty-Eighth Session of the IMO's Technical Cooperation Committee Meeting and the One Hundred Twentieth Session of the IMO Council

AGENCY: Coast Guard, DHS.

ACTION: Notice of meeting.

SUMMARY: The United States Coast Guard will conduct an open meeting in Washington, DC in preparation for the upcoming sixty-eighth session of the International Maritime Organization's (IMO) Technical Cooperation Committee Meeting and the one hundred twentieth session of the IMO Council to be held at the IMO Headquarters, London, United Kingdom, on June 18-20, 2018 and July 2-6, 2018, respectively.

DATES: This meeting will be held on Wednesday, June 13, 2018, beginning at 9:00 a.m., Eastern Time. This meeting is open to the public.

ADDRESSES: The public meeting will be held in Room 5L18-01 of the Douglas A. Munro Coast Guard Headquarters Building at St. Elizabeth's, 2703 Martin Luther King, Jr. Avenue SE, Washington, DC 20593. Due to security requirements, each visitor must present one valid, government-issued photo identification in order to gain entrance to the building. Those desiring to attend the public meeting should contact the Coast Guard ahead of the meeting (see FOR FURTHER INFORMATION CONTACT) to facilitate the security process related to building access, or to request reasonable accommodation.

FOR FURTHER INFORMATION CONTACT: For additional information about this public meeting you may contact Lieutenant Commander Staci Weist by telephone at 202-372-1376 or by email at Eustacia.Y.Weist@uscg.mil.

SUPPLEMENTARY INFORMATION: The primary purpose of this meeting is to prepare for the upcoming sixty-eighth session of the IMO's Technical Cooperation Committee (TC 68) and the one hundred twentieth session of the IMO Council (C 120). The agenda items of TC 68 include:

○ Adoption of the agenda

○ Work of other bodies and organizations

○ Integrated Technical Cooperation Programme (Annual report for 2017)

○ Sustainable financing of the Integrated Technical Cooperation Programme (Long Term Resource Mobilization Strategy and Analysis of the viability of introducing an access fee to GISIS data)

○ The 2030 Agenda for Sustainable Development: (Maritime transport policy development, Country Maritime Profiles, Implementation of the 2030 Agenda for Sustainable Development, and Strengthening the impact of women in the maritime sector)

○ Partnerships (Regional presence and coordination and Partnership arrangements)

○ IMO Member State Audit Scheme

○ Review and status of implementation of the recommendations of the Impact Assessment Exercise for the period 2012-2015

○ Global maritime training institutions (World Maritime University, IMO International Maritime Law Institute, and other established arrangements)

○ Development of a New Strategic Framework for the Organization for 2018-2023

○ Application of the document on the Organization and method of work of the Technical Cooperation Committee

○ Work programme

○ Election of the Chairman and Vice-Chairman for 2019

○ Any other business

○ Consideration of the report of the Committee on its sixty-eighth session

The agenda items of C120 include:

○ Adoption of the agenda

○ Election of the Vice-Chair of the Council

○ Report of the Secretary-General on credentials

○ Strategy, planning and reform

○ Rules of Procedure of the Assembly

○ Resource Management: (Human resources matters, including amendments to the Staff Regulations and Staff Rules, Financial report and audited financial statements for the financial period ending December 31, 2017, Report on investments for 2017, Report on the status of Member States' contributions and implementation of Article 61 of the IMO Convention, and advances to the Working Capital Fund, Budget considerations for 2018, and Resource management—review of funds and ASHI liability funding strategy)

○ IMO Member State Audit Scheme

○ Consideration of the report of the Facilitation Committee

○ Consideration of the report of the Legal Committee

○ Consideration of the report of the Marine Environment Protection Committee

○ Consideration of the report of the Maritime Safety Committee

○ Consideration of the report of the Technical Cooperation Committee

○ Technical Cooperation Fund: Report on activities of the 2017 programme

○ Word Maritime University

○ IMO International Maritime Law Institute

○ Protection of vital shipping lanes

○ External relations

○ Report on the status of the Convention and membership of the Organization

○ Report on the status of conventions and other multilateral instruments in respect of which the Organization performs functions

○ Place, date and duration of the next session of the Council (C 121)

○ Supplementary agenda items, if any

Members of the public may attend this meeting up to the seating capacity of the room. To facilitate the building security process, and to request reasonable accommodation, those who plan to attend should contact the meeting coordinator, Lieutenant Commander Staci Weist, not later than June 8, 2018. Requests made after June 8, 2018, may not be able to be accommodated. It is recommended that attendees arrive at Coast Guard Headquarters no later than 30 minutes ahead of the scheduled meeting for the security screening process. Parking in the vicinity of the building is extremely limited. Additional information regarding this and other IMO public meetings may be found at: www.uscg.mil/imo.

Benjamin J. Hawkins,
Acting Deputy Director, Commercial Regulations and Standards, U.S. Coast Guard.

[FR Doc. 2018-10898 Filed 5-21-18; 8:45 am]

BILLING CODE P